FEDERAL ELECTION COMMISSION

Sunshine Act Meeting

Previously announced date and time: Thursday, March 17, 2005, 10 a.m. meeting open to the public. This meeting was cancelled.

DATE AND TIME: Tuesday, March 22, 2005 at 3 p.m.

PLACE: 999 E Street, NW., Washington, DC.

STATUS: This meeting will be closed to the public.

ITEMS TO BE DISCUSSED: Compliance matters pursuant to 2 U.S.C. § 437g. Audits conducted pursuant to 2 U.S.C. 437g, § 438(b), and Title 26, U.S.C. Matters concerning participation in civil actions or proceedings or arbitration. Internal personnel rules and procedures or matters affecting a particular employee.

DATE AND TIME: March 24, 2005, at 10 a.m.

PLACE: 999 E Street, NW., Washington, DC (Ninth Floor).

STATUS: This meeting will be open to the public.

ITEMS TO BE DISCUSSED: Correction and Approval of Minutes. 2005 Legislative Recommendations. Notice of Proposed Rulemaking on the Internet: Definitions of “Public Communication” and “Generic Campaign Activity,” and Disclaimers. Routine Administrative Matters.

PERSON TO CONTACT FOR INFORMATION: Mr. Robert Biersack, Press Officer, Telephone: (202) 694-1220.

Mary W. Dove,
Secretary of the Commission.

[FR Doc. 05-5479 Filed 3-16-05; 11:01 am]

BILLING CODE 6717-01-M